DEPARTMENT OF COMMERCE

Office of the Secretary

[Docket No. 020430099-2099-01]

Guidelines for Ensuring and Maximizing the Quality, Objectivity, Utility, and Integrity of Disseminated Information; Reopening of Comment Period

AGENCY: Department of Commerce.

ACTION: Notice; Request for comment; Reopening of comment period.

SUMMARY: The Department of Commerce is re-opening, until June 30, 2002, the period for submission of public comments on its Department-wide draft guidelines implementing Section 515 of Public Law 106-554, the Treasury and General Government Appropriations Act for Fiscal Year 2001, known as the Data Quality Act.

DATE: Comments on the Commerce Department guidelines must be received by close of business June 30, 2002.

ADDRESSES: Comments should be sent to Thomas N. Pyke, Jr., Chief Information Officer, Department of Commerce, 14th and Constitution Avenue, NW., Room 5029B, Washington, DC 20230. Send e-mail to informationquality@doc.gov. Department of Commerce operating units will publish their information quality standards on the Web sites listed in the SUPPLEMENTARY INFORMATION section of this document. Comments on the operating unit standards should be addressed directly to the contact noted in the operating unit standards.

FOR FURTHER INFORMATION CONTACT: Diana H. Hynek, Office of the Chief Information Officer, Department of Commerce, 14th and Constitution Avenue, NW., Room 6625, Washington, DC 20230. Telephone (202) 482-0266 or by e-mail to dhynek@doc.gov.

SUPPLEMENTARY INFORMATION: Section 515 of Public Law 106-554, the Treasury and General Government Appropriations Act for Fiscal Year 2001, directs the Office of Management and Budget (OMB) to issue government-wide guidelines that “provide policy and procedural guidance to Federal agencies for ensuring and maximizing the quality, objectivity, utility, and integrity of information (including statistical information) disseminated by Federal agencies.” In addition, section 515 requires that agencies subject to the OMB guidelines must establish “administrative mechanisms allowing affected persons to seek and obtain correction of information that does not comply with [the OMB guidelines].” The OMB final guidelines were published in the Federal Register on February 22, 2002. Those guidelines direct that, by May 1, 2002, agencies publish for public comment their draft guidelines.

On May 1, 2002, the Commerce Department posted on its website, and on May 3, 2002, published in the Federal Register (67 FR 22398), its draft Department-wide guidelines. Public comment was requested through June 3, 2002. Pursuant to a request from the public for additional time to comment, the Department is re-opening the comment period until June 30, 2002. Any comments that may have been received between June 3, 2002 and June 6, 2002 will be considered timely filed.

Dated: May 31, 2002.
Thomas N. Pyke, Jr.,
Chief Information Officer.

[FR Doc. 02-14167 Filed 6-3-02; 11:30 am]

BILLING CODE 3510-CW-P